DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: 2004-2006 Survey of Industrial Research & Development.

Form Number(s): RD-1, RD-1A.

Agency Approval Number: None.

Type of Request: New collection.

Burden: 93,500 hours.

Number of Respondents: 32,000.

Avg Hours Per Response: 3 hours.

Needs and Uses: The Census Bureau is requesting a new collection for the annual Survey of Industrial Research and Development (the Survey) that is conducted jointly by the U.S. Census Bureau and the National Science Foundation (NSF). Historically, the Survey approval request had been submitted by the NSF with the Census Bureau acting as the collection agent. Under a joint project agreement between NSF and the Census Bureau, the Census Bureau plans to assume responsibility for obtaining clearance of the Survey. The Survey was previously cleared under OMB control number 3145-0027.

The National Science Foundation Act of 1950, as amended, authorizes and directs NSF “* * * to provide a central clearinghouse for the collection, interpretation, and analysis of data on scientific and engineering resources and to provide a source of information for policy formulation by other agencies of the Federal government.” The Survey is the vehicle with which NSF carries out the industrial portion of this mandate. NSF together with the Census Bureau, the collecting and compiling agent, analyze the data and publish the resulting statistics.

Industry is the major performer of research and development (R&D) in the United States, spending over 70 percent of total U.S. R&D outlays each year. A consistent industrial R&D information base is essential to government officials formulating public policy, industry personnel involved in corporate planning, and members of the academic community conducting research. To develop policies designed to promote and enhance science and technology, past trends and the present status of R&D must be known and analyzed. Without comprehensive industrial R&D statistics, it would be impossible to evaluate the health of science and technology in the United States or to make comparisons between the technological progress of our country and that of other nations.

Statistics from the Survey are published in NSF's annual publication series, Research and Development in Industry, available via the Internet at http://www.nsf.gov/sbe/srs/indus/start.htm. Since 1953, this survey has provided continuity of statistics on R&D expenditures by major industry groups and by source of funds. Over the years, questions on a number of additional areas have been added to the Survey as the need for this R&D information became necessary for policy formulation and research.

Prior to the last request for OMB review, response to four questions (total net sales and total employment for the company; and the amount of Federal and total funds the company spent on R&D) was mandatory and fulfilled the Census Bureau's data-collecting mandate in Title 13, U.S. Code, 131, 182, 224 and 225. The last request asked for authorization to increase the number of annual mandatory items from 4 to 5 by adding the item, cost of R&D performed within the company by state, to the list. Further, authorization to make the entire survey mandatory every five years to coincide with the Census Bureau's Economic Census was requested and approved. The “all-mandatory” requirement was first applied for the 2002 cycle of the Survey.

The next economic census will be conducted for 2007 and authorization to apply the requirement will be requested again. In the meantime, response to other than the five mandatory items will remain voluntary for the three non-economic census years covered by this request.

In addition to burden hours sufficient to cover the normal operation of the survey, we are also requesting 5,000 hours annually to cover methodological and survey quality improvement efforts.

Policy officials from many Federal agencies rely on statistics from this survey for essential information. For example, total U.S. R&D expenditures statistics have been used by the Bureau of Economic Analysis (BEA) to update the System of National Accounts and, in fact, the first attempt by BEA to establish a separate R&D satellite account in the System is underway. Results from the Survey are needed to develop and subsequently update this detailed satellite account. Also, recently a new data linking project has begun that is designed to augment the Foreign Direct Investment (FDI) data collected by BEA. This project is the first to test new data sharing legislation. The linking of the results of the 1997 cycle of the Survey with BEA's 1997 FDI benchmark files is the first application of the recently enacted Confidential Information Protection and Statistical Efficiency Act (CIPSEA) that allows limited data sharing among selected Federal statistical agencies. Future FDI linkages are planned to begin with the 2002 Survey file. Further, the Census Bureau links data collected by the Survey with other statistical files. At the Census Bureau, historical company-level R&D data are linked to a file that contains information on the outputs and inputs of companies' manufacturing plants. Researchers are able to analyze the relationships between R&D funding and other economic variables by using micro-level data.

Many individuals and organizations access the survey statistics via the Internet and hundreds have asked to have their names placed on the mailing list for a paper copy of the annual SRS InfoBrief that announces the availability of statistics from each cycle of the Survey. Information about the kinds of projects that rely on statistics from the Survey is available from internal records of NSF's Division of Science Resources Statistics (SRS). In addition, survey statistics are regularly printed in trade publications and many researchers use the survey statistics from these secondary sources without directly contacting NSF or the Census Bureau.

Affected Public: Business or other for-profit.

Frequency: Annually.

Respondent's Obligation: Voluntary and Mandatory.

Legal Authority: Title 13 U.S.C., Sections 131, 182, 224, and 225; The National Science Foundation Act of 1950.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: October 26, 2004.
Madeleine Clayton,
Management Analyst, Office of the Chief Information Officer.

[FR Doc. 04-24291 Filed 10-29-04; 8:45 am]

BILLING CODE 3510-07-P